ENVIRONMENTAL PROTECTION AGENCY

[ER-FRL-6687-4]

Environmental Impact Statements; Notice of Availability

Responsible Agency: Office of Federal Activities, General Information (202) 564-7167 or http://www.epa.gov/compliance/nepa/.

Weekly receipt of Environmental Impact Statements

Filed 05/21/2007 Through 05/25/2007

Pursuant to 40 CFR 1506.9.

EIS No. 20070205, Draft EIS, AFS, WA, Tripod Fire Salvage Project, Proposal to Salvage Harvest Dead Trees and Fire-Injured Trees Expected to Die Within One Year, Methow Valley and Tonasket Ranger Districts, Okanogan and Wenatchee National Forests, Okanogan County, WA, Comment Period Ends: 07/16/2007, Contact: John Newcom 509-996-4003.

EIS No. 20070206, Final EIS, FHW, NY, NY Route 347 Safety and Mobility Improvement Project, from Northern State Parkway to NY Route 25A, Funding, Towns of Smithtown, Islip and Brookhaven, Suffolk County, NY, Wait Period Ends: 07/02/2007, Contact: Robert Arnold 518-431-4167.

EIS No. 20070207, Draft EIS, AFS, SD, Citadel Project Area, Proposes to Implement Multiple Resource Management Actions, Northern Hills Ranger District, Black Hills National Forest, Lawrence County, SD, Comment Period Ends: 07/16/2007, Contact: Chris Stores 605-642-4622.

EIS No. 20070208, Draft EIS, HUD, CA, Vista Village Workforce Housing Project, To Provide Professional Managed Affordable Housing, Tahoe Vista, Placer County, CA, Comment Period Ends: 07/16/2007, Contact: Joanne Auerboch 530-745-3150.

EIS No. 20070209, Draft EIS, FHW, NY, Long Island Truck-Rail Intermodel (LITRIM) Facility, Construction and Operation, Right-of-Way Acquisition, Town of Islip, Suffolk County, NY, Comment Period Ends: 07/25/2007, Contact: Robert Arnold 518-431-4127.

EIS No. 20070210, Draft EIS, USA, CA, Carmp Parks Real Property Master Plan and Real Property Exchange, Provide Exceptional Training and Modern Facilities for Soldiers, Master Planned Development, Alameda and Contra Costa Counties, CA, Comment Period Ends: 07/16/2007, Contact: Amy Phillip 925-875-4298.

EIS No. 20070211, Draft EIS, AFS, OR, Thorn Fire Salvage Recovery Project, Salvaging Dead and Dying Timber, Shake Table Fire Complex, Malheur National Forest, Grant County, OR, Comment Period Ends: 07/16/2007, Contact: Jerry Hensley 541-575-3000.

EIS No. 20070212, Draft EIS, TVA, AL, Bear Creek Dam Leakage Resolution Project, To Modify Dam and Maintain Summer Pool Level of 576 Feet, Bear Creek Dam, Franklin County, AL, Comment Period Ends: 07/16/2007, Contact: James F. Williamson 865-632-6418.

EIS No. 20070213, Draft EIS, DOE, 00, FutureGen Project, Planning, Design, Construction and Operation a Coal Fueled Electric Power and Hydrogen Gas Production Plant, Four Alternative Sites: Mattoon, IL, Tuscola, IL, Jewett, TX and Odessa, TX, Comment Period Ends: 07/16/2007, Contact: Mark McKoy 304-285-4426.

EIS No. 20070214, Final EIS, FRC, 00, East Texas to Mississippi Expansion Project, Construction and Operation of 243.3 miles Natural Gas Pipeline to Transport Natural Gas from Production Fields in eastern Texas to Markets in the Gulf Coast, Midwestern, Northeastern and Southeastern United States, Wait Period Ends: 07/02/2007, Contact: Andy Black 1-866-208-3372.

EIS No. 20070216, Draft Supplement, AFS, 00, Southwest Idaho Ecogroup Land and Resource Management Plan, Additional Information Concerning Terrestrial Management Indicator Species (MIS), Boise National Forest, Payette National Forest and Sawtooth National Forest, Forest Plan Revision, Implementation, Several Counties, ID; Malhaur County, OR and Box Elder County, UT, Comment Period Ends: 08/30/2007, Contact: Sharon LaBrecque 208-737-3200.

EIS No. 20070217, Final EIS, CDB, NY, East River Waterfront Esplanade and Piers Project, Revitalization, Connecting Whitehall Ferry Terminal and Peter Minuit Plaza to East River Park, Funding New York, NY, Wait Period Ends: 07/02/2007, Contact: Irene Chang 212-962-2300.

EIS No. 20070218, Draft EIS, FHW, CA, Interstate 405 (San Diego Freeway) Sepulveda Pass Widening Project, From Interstate 10 to US-101 in the City of Los Angeles, Los Angeles County, CA, Comment Period Ends: 07/16/2007, Contact: Steve Healow 916-498-5849.

EIS No. 20070219, Final EIS, AFS, 00, Norwood Project, Proposes to Implement Multiple Resource Management Actions, Black Hills National Forest, Hell Canyon Ranger District, Pennington County, SD and Weston and Crook Counties, WY, Wait Period Ends: 07/02/2007, Contact: Kelly Honors 605-673-4853.

Amended Notices

EIS No. 20070069, Second Final Supplement, FHW, WV, Appalachian Corridor H Project, Construction of a 9-mile Long Segment between the Termini of Parsons and Davis, Updated Information the Parsons-to-Davis Project, Funding and U.S. Army COE Section 404 Permit Issuance, Tucker County, WV, Wait Period Ends: 08/01/2007, Contact: Thomas J. Smith 304-347-5928. Revision to FR Notice Published 03/02/2007: Reopen and Extending Comment Period from 4/27/2007 to August 1, 2007.

Dated: May 29, 2007.
Ken Mittelholtz,
Environmental Protection Specialist, NEPA Compliance Division, Office of Federal Activities.

[FR Doc. E7-10593 Filed 5-31-07; 8:45 am]

BILLING CODE 6560-50-P